DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Region Permit Family of Forms.

OMB Control Number: 0648-0206.

Form Number(s): None.

Type of Request: Regular (extension of a currently approved information collection).

Number of Respondents: 531.

Average Hours per Response: Federal fisheries permit, 21 minutes; federal processor permit, 25 minutes; exempted fishing permit, 100 hours.

Burden Hours: 590.

Needs and Uses: For a person to participate in Federal fisheries, the National Marine Fisheries Service (NMFS) requires a Federal Fisheries Permit (FFP), a Federal Processor Permit (FPP), or an Exempted Fishing Permit (EFP). NMFS Alaska Region created a set of commercial fishing permits that operators of vessels and managers of processors must have on board or on site when fishing, receiving, buying, or processing groundfish and non-groundfish species. The permit information provides harvest gear types; descriptions of vessels, shoreside processors, and stationary floating processors; and expected fishery activity levels. These permits provide NMFS with a way to monitor participation in Federal fisheries.

Section 303(b)(1) of the Magnuson-Stevens Act specifically recognizes the need for permit issuance. The requirement of a permit for marine resource users is one of the regulatory steps taken to carry out conservation and management objectives. The issuance of a permit is an essential ingredient in the management of fishery resources needed for identification of the participants, expected activity levels, and for regulatory compliance (e.g., withholding of permit issuance pending collection of unpaid penalties).

Affected Public: Business or other for-profit organizations; individuals or households.

Frequency: Every three years, annually and on occasion.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: December 21, 2017.
Sarah Brabson,
NOAA PRA Clearance Officer.

[FR Doc. 2017-27929 Filed 12-26-17; 8:45 am]

BILLING CODE 3510-22-P